DEPARTMENT OF TRANSPORTATION

Federal Aviation Administration

14 CFR Part 39

[Docket No. FAA-2020-0983; Project Identifier MCAI-2020-00542-R; Amendment 39-21404; AD 2021-03-01]

RIN 2120-AA64

Airworthiness Directives; Airbus Helicopters

AGENCY: Federal Aviation Administration (FAA), DOT.

ACTION: Final rule.

SUMMARY: The FAA is superseding Airworthiness Directive (AD) 2018-05-09, which applied to all Airbus Helicopters Model AS332C, AS332C1, AS332L, and AS332L1 helicopters. AD 2018-05-09 required inspecting the tail rotor (T/R) flapping hinge link (hinge) and reporting the results. This AD requires repetitive inspections of the spindle bolts and the inner ring and needle bearings of each flapping hinge, corrective actions if necessary, and repetitive replacements of affected flapping hinge components, as specified in a European Union Aviation Safety Agency (EASA) AD, which is incorporated by reference. Replacement of all affected flapping hinge components on each flapping hinge is terminating action for the repetitive inspections. This AD also expands the applicability. This AD was prompted by a report of a damaged flapping hinge on a T/R blade. The FAA is issuing this AD to address the unsafe condition on these products.

DATES: This AD is effective April 1, 2021.

The Director of the Federal Register approved the incorporation by reference of a certain publication listed in this AD as of April 1, 2021.

ADDRESSES: For material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2020-0983.

Examining the AD Docket

You may examine the AD docket on the internet at https://www.regulations.gov by searching for and locating Docket No. FAA-2020-0983; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Daniel Moore, Aviation Safety Engineer, Denver ACO Branch, Compliance & Airworthiness Division, FAA, 26805 E 68th Ave., Denver, CO 80249; telephone 303-342-1095; email daniel.e.moore@faa.gov.

SUPPLEMENTARY INFORMATION:

Discussion

The EASA, which is the Technical Agent for the Member States of the European Union, has issued EASA AD 2020-0086, dated April 14, 2020 (EASA AD 2020-0086) (also referred to as the Mandatory Continuing Airworthiness Information, or the MCAI), to correct an unsafe condition for all Airbus Helicopters Model AS332C, AS332C1, AS332L, AS332L1, and SA330J helicopters.

The FAA issued a notice of proposed rulemaking (NPRM) to amend 14 CFR part 39 to supersede AD 2018-05-09, Amendment 39-19218 (83 FR 10360, March 9, 2018) (AD 2018-05-09). AD 2018-05-09 applied to all Airbus Helicopters Model AS332C, AS332C1, AS332L, and AS332L1 helicopters. The NPRM published in the Federal Register on November 4, 2020 (85 FR 70087). The NPRM was prompted by report of a damaged flapping hinge on a T/R blade. The NPRM proposed to require repetitive inspections of the spindle bolts and the inner ring and needle bearings of each flapping hinge, corrective actions if necessary, and repetitive replacements of affected flapping hinge components, as specified in an EASA AD. Replacement of all affected flapping hinge components on each flapping hinge is terminating action for the repetitive inspections. The NPRM also proposed to expand the applicability.

The FAA is issuing this AD to address failure of a T/R flapping hinge. This condition could result in unbalance of the T/R, detachment of the T/R gearbox and hub, and subsequent loss of control of the helicopter. See the MCAI for additional background information.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

EASA AD 2020-0086 describes procedures for repetitive replacement of the flapping hinge components and repetitive inspections of the spindle bolts, inner ring, and needle bearings of each flapping hinge, and corrective action. The inspection procedures include repetitive inspections of the spindle bolts for cracking; repetitive inspections of the inner ring for spalling, brinelling, and cracking; and repetitive inspections of the needle bearings for spalling. The corrective actions include replacement of any affected component with a serviceable part. This material is reasonably available because the interested parties have access to it through their normal course of business or by the means identified in the ADDRESSES section.

Differences Between This AD and the MCAI

Although the service information referenced in EASA AD 2020-0086 specifies to return affected parts and submit a form to the manufacturer, this AD does not include those requirements.

Where paragraph (1) of EASA AD 2020-0086 refers to a compliance time of “within 25 flight hours or during the next scheduled 50 FH inspection, whichever occurs later . . . ,” for the initial replacement, this AD requires completion within 25 hours time-in-service after the effective date of this AD.

Costs of Compliance

The FAA estimates that this AD affects 26 helicopters of U.S. registry. The FAA estimates the following costs to comply with this AD:

Estimated Costs for Required Actions
Labor cost | Parts cost | Cost per product | Cost on U.S. operators
8 work-hours × $85 per hour = $680 | $11,630 | $12,310 | $320,060

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-05-09, Amendment 39-19218 (83 FR 10360, March 9, 2018), and adding the following new AD:

2021-03-01 Airbus Helicopters: Amendment 39-21404; Docket No. FAA-2020-0983; Project Identifier MCAI-2020-00542-R.

(a) Effective Date

This Airworthiness Directive (AD) is effective April 1, 2021.

(b) Affected ADs

This AD removes AD 2018-05-09, Amendment 39-19218 (83 FR 10360, March 9, 2018) (AD 2018-05-09).

(c) Applicability

This AD applies to all Airbus Helicopters Model AS332C, AS332C1, AS332L, AS332L1, and SA330J helicopters, certificated in any category, all manufacturer serial numbers.

(d) Subject

Joint Aircraft System Component (JASC) Codes 6420, Tail Rotor Head; 6720, Tail Rotor Control System.

(e) Reason

This AD was prompted by a report of a damaged flapping hinge link (hinge) on a tail rotor (T/R) blade. The FAA is issuing this AD to address failure of a T/R flapping hinge. This condition could result in unbalance of the T/R, detachment of the T/R gearbox and hub, and subsequent loss of control of the helicopter.

(f) Compliance

Comply with this AD within the compliance times specified, unless already done.

(g) Requirements

Except as specified in paragraph (h) of this AD: Comply with all required actions and compliance times specified in, and in accordance with, European Union Aviation Safety Agency (EASA) AD 2020-0086, dated April 14, 2020 (EASA AD 2020-0086).

(h) Exceptions to EASA AD 2020-0086

(1) Where EASA AD 2020-0086 refers to its effective date, this AD requires using the effective date of this AD.

(2) The “Remarks” section of EASA AD 2020-0086 does not apply to this AD.

(3) Although the service information referenced in EASA AD 2020-0086 specifies to return affected parts and submit a form to the manufacturer, this AD does not include those requirements.

(4) Where paragraph (9) of EASA AD 2020-0086 refers to “any discrepancy,” for the purposes of this AD, discrepancies include spalling, brinelling, and cracking on the inner ring, and spalling on the bearing needles.

(5) Where EASA AD 2020-0086 refers to flight hours (FH), this AD requires using hours time-in-service.

(6) Where paragraph (1) of EASA AD 2020-0086 refers to a compliance time of “within 25 flight hours or during the next scheduled 50 FH inspection, whichever occurs later . . . , ” for the initial replacement, this AD requires completion within 25 hours time-in-service after the effective date of this AD.

(i) Alternative Methods of Compliance (AMOCs)

(1) The Manager, Strategic Policy Rotorcraft Section, FAA, has the authority to approve AMOCs for this AD, if requested using the procedures found in 14 CFR 39.19. In accordance with 14 CFR 39.19, send your request to your principal inspector or local Flight Standards District Office, as appropriate. If sending information directly to the manager of the Strategic Policy Rotorcraft Section, send it to: Manager, Strategic Policy Rotorcraft Section, FAA, 10101 Hillwood Pkwy., Fort Worth, TX 76177; telephone 817-222-5110. Information may be emailed to: 9-ASW-FTW-AMOC-Requests@faa.gov.

(2) Before using any approved AMOC, notify your appropriate principal inspector, or lacking a principal inspector, the manager of the local flight standards district office/certificate holding district office.

(j) Related Information

For more information about this AD, contact Daniel Moore, Aviation Safety Engineer, Denver ACO Branch, Compliance & Airworthiness Division, FAA, 26805 E 68th Ave., Denver, CO 80249; telephone 303-342-1095; email daniel.e.moore@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0086, dated April 14, 2020.

(ii) [Reserved]

(3) For EASA AD 2020-0086, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2020-0983.

(5) You may view this material that is incorporated by reference at the National Archives and Records Administration (NARA). For information on the availability of this material at NARA, email fedreg.legal@nara.gov, or go to: https://www.archives.gov/federal-register/cfr/ibr-locations.html.

Issued on January 21, 2021.
Lance T. Gant,
Director, Compliance & Airworthiness Division, Aircraft Certification Service.

[FR Doc. 2021-03662 Filed 2-24-21; 8:45 am]

BILLING CODE 4910-13-P